ENVIRONMENTAL PROTECTION AGENCY

[FRL-11900-01-R8]

Clean Air Act Operating Permit Program; Order on Petition for Objection to State Operating Permits for Bonanza Creek Energy Operating Company, LLC: Antelope CPF 13-21 Production Facility, State Antelope O-1 Central Production Facility, State North Platte 42-26 Central Production Facility and State Pronghorn 41-32 Central Production Facility

AGENCY: Environmental Protection Agency (EPA).

ACTION: Notice of final order on petition.

SUMMARY: The Environmental Protection Agency (EPA) Administrator signed an order dated January 30, 2024, granting a petition dated August 7, 2023, from the Center for Biological Diversity, Public Employees for Environmental Responsibility, 350 Colorado, Sierra Club and Green Latinos. The petition requested that the EPA object to the Clean Air Act (CAA) operating permits issued by the Colorado Department of Public Health and Environment (CDPHE) to Bonanza Creek Energy Operating Company, LLC for its Antelope CPF 13-21 Production Facility, State Antelope O-1 Central Production Facility, State North Platte 42-26 Central Production Facility and State Pronghorn 41-32 Central Production Facility, all located in Weld County, Colorado.

FOR FURTHER INFORMATION CONTACT: Donald Law, EPA Region 8, telephone number: (303) 312-7015, email address: law.donald@epa.gov. The final order and petition are available electronically at: https://www.epa.gov/title-v-operating-permits/title-v-petition-database.

SUPPLEMENTARY INFORMATION: The EPA received a petition from the Center for Biological Diversity, Public Employees for Environmental Responsibility, 350 Colorado, Sierra Club and Green Latinos dated August 7, 2023, requesting that the EPA object to the issuance of operating permits no. 20OPWE417, 20OPWE418, 20OPWE419 and 20OPWE420 issued by CDPHE to Bonanza Creek Energy Operating Company, LLC in Weld, Colorado. On January 30, 2024, the EPA Administrator issued an order granting the petition. The order itself explains the basis for the EPA's decision.

Sections 307(b) and 505(b)(2) of the CAA provide that a petitioner may request judicial review of those portions of an order that deny issues in a petition. Any petition for review shall be filed in the United States Court of Appeals for the appropriate circuit no later than June 25, 2024.

KC Becker,
Regional Administrator, Region 8.

[FR Doc. 2024-09032 Filed 4-25-24; 8:45 am]

BILLING CODE 6560-50-P